INTERNATIONAL TRADE COMMISSION

[Investigation No. 731-TA-1206 (Final)]

Diffusion-Annealed, Nickel-Plated Flat-Rolled Steel Products From Japan; Determination

On the basis of the record ¹ developed in the subject investigation, the United States International Trade Commission (Commission) determines,² pursuant to section 735(b) of the Tariff Act of 1930 (19 U.S.C. 1673d(b)) (the Act), that an industry in the United States is materially injured by reason of imports from Japan of diffusion-annealed, nickel-plated flat-rolled steel products, provided for primarily in subheadings 7210.90.60 and 7212.50.00 of the Harmonized Tariff Schedule of the United States, that have been found by the Department of Commerce (Commerce) to be sold in the United States at less than fair value (LTFV).

¹ The record is defined in sec. 207.2(f) of the Commission's Rules of Practice and Procedure (19 CFR 207.2(f)).

² Commissioner Rhonda K. Schmidtlein not participating.

Background

The Commission instituted this investigation effective March 27, 2013, following receipt of a petition filed with the Commission and Commerce by Thomas Steel Strip Corporation, Warren, Ohio. The final phase of the investigation was scheduled by the Commission following notification of a preliminary determination by Commerce that imports of diffusion-annealed, nickel-plated flat-rolled steel products from Japan were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of December 11, 2013 (78 FR 75371). The hearing was held in Washington, DC, on April 1, 2014, and all persons who requested the opportunity were permitted to appear in person or by counsel.

The Commission completed and filed its determination in this investigation on May 21, 2014. The views of the Commission are contained in USITC Publication 4466 (May 2014), entitled Diffusion-Annealed, Nickel-Plated Flat-Rolled Steel Products from Japan: Investigation No. 731-TA-1206 (Final).

By order of the Commission.
Issued: May 21, 2014.
Lisa R. Barton,
Secretary to the Commission.

[FR Doc. 2014-12219 Filed 5-27-14; 8:45 am]

BILLING CODE 7020-02-P